DEPARTMENT OF TRANSPORTATION

Federal Aviation Administration

14 CFR Part 97

[Docket No. 30440; Amdt. No. 3118]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective March 18, 2005. The compliance date for each SIAP is specified in the amendatory provisions.

The incorporation by reference of certain publications listed in the regulations is approved by the Director of the Federal Register as of March 18, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on March 11, 2005.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective April 14, 2005

Nantucket, MA, Nantucket Memorial, ILS OR LOC RWY 6, Orig

Nantucket, MA, Nantucket Memorial, LOC BC RWY 6, Amdt 10B, CANCELLED

* * * Effective May 12, 2005

Deadhorse, AK, Deadhorse, LOC/DME BC RWY 22, Amdt 10

Emmonak, AK, Emmonak, RNAV (GPS) RWY 16, Amdt 1

Emmonak, AK, Emmonak, RNAV (GPS) RWY 34, Amdt 1

Emmonak, AK, Emmonak, VOR RWY 16, Amdt 1

Emmonak, AK, Emmonak, VOR RWY 34, Amdt 1

Andalusia/Opp, AL, Andalusia-Opp, NDB-A, Amdt 3

Andalusia/Opp, AL, Andalusia-Opp, GPS RWY 29, ORIG, CANCELLED

Andalusia/Opp, AL, Andalusia-Opp, RNAV (GPS) RWY 11, Orig

Andalusia/Opp, AL, Andalusia-Opp, RNAV (GPS) RWY 29, Orig

Decatur, AR, Crystal Lake, RNAV (GPS) RWY 13, Orig

Decatur, AR, Crystal Lake, VOR/DME RWY 13, Amdt 9

Crossett, AR, Z M Jack Stell Field, RNAV (GPS) RWY 23, Orig

Crossett, AR, Z M Jack Stell Field, GPS RWY 23, Orig, CANCELLED

Melbourne, AR, Melbourne Muni-John E. Miller Field, RNAV (GPS) RWY 3, Orig

Melbourne, AR, Melbourne Muni-John E. Miller Field, RNAV (GPS) RWY 21, Orig

Orlando, FL, Orlando Intl, ILS OR LOC RWY 18R, Amdt 7

Orlando, FL, Orlando Intl, ILS OR LOC RWY 36R, Amdt 8, ILS RWY 36R (CAT II), ILS RWY 36R (CAT III)

Driggs, ID, Driggs-Reed Memorial, RNAV (GPS) RWY 3, Orig

Dodge City, KS, Dodge City Regional, VOR RWY 14, Amdt 19

Dodge City, KS, Dodge City Regional, VOR/DME RWY 32, Amdt 5

Parsons, KS, Tri City, RNAV (GPS) RWY 17, Orig

Parsons, KS, Tri City RNAV (GPS) RWY 35, Orig

Parsons, KS, Tri City NDB RWY 17, Amdt 9

Parsons, KS, Tri City NDB RWY 35, Amdt 6

Parsons, KS, Tri City VOR/DME RWY 17, Orig

Parsons, KS, Tri City VOR-A, Orig-A, CANCELLED

Parsons, KS, Tri City VOR/DME RNAV RWY 17, Amdt 5B, CANCELLED

Parsons, KS, Tri City VOR/DME RNAV RWY 35, Amdt 5C, CANCELLED

Covington, KY, Cincinnati/Northern Kentucky Intl, RNAV (GPS) RWY 18C, Orig-A

Covington, KY, Cincinnati/Northern Kentucky Intl, RNAV (GPS) RWY 36C, Orig-A

Covington, KY, Cincinnati/Northern Kentucky Intl, ILS OR LOC RWY 18C, Amdt 20A

Covington, KY, Cincinnati/Northern Kentucky Intl, ILS OR LOC RWY 36C, Amdt 39A, ILS RWY 36C (CAT II), ILS RWY 36C (CAT III)

Slidell, LA, Slidell, RNAV (GPS) RWY 18, Orig

Slidell, LA, Slidell, RNAV (GPS) RWY 36, Orig

Slidell, LA, Slidell, VOR/DME RWY 18, Amdt 4

Slidell, LA, Slidell, GPS RWY 36, Orig-B, CANCELLED

Kosciusko, MS, Kosciusko-Attala County, RNAV (GPS) RWY 14, Orig

Kosciusko, MS, Kosciusko-Attala County, RNAV (GPS) RWY 32, Orig

Kosciusko, MS, Kosciusko-Attala County, NDB RWY 14, Amdt 6

Kosciusko, MS, Kosciusko-Attala County, NDB RWY 32, Amdt 5

Maple Lake, MN, Maple Lake Muni, VOR-A, Amdt 4

Washington, MO, Washington Memorial, RNAV (GPS) RWY 16, Orig, CANCELLED

Washington, MO, Washington Memorial, RNAV (GPS) RWY 34, Orig, CANCELLED

Washington, MO, Washington Memorial, VOR RWY 16, AMDT 2A, CANCELLED

Zuni Pueblo, NM, Black Rock, RNAV (GPS) RWY 6, Orig

Zuni Pueblo, NM, Black Rock, VOR/DME RWY 6, Amdt 2

Zuni Pueblo, NM, Black Rock, GPS RWY 7, Orig-A, CANCELLED

Louisburg, NC, Franklin County, ILS OR LOC RWY 4, Amdt 3

Louisburg, NC, Franklin County, VOR/DME-A, Amdt 2

Louisburg, NC, Franklin County, GPS RWY 4, Amdt 1, CANCELLED

Louisburg, NC, Franklin County, RNAV (GPS) RWY 4, Orig

Louisburg, NC, Franklin County, RNAV (GPS) RWY 22, Orig

Las Vegas, NV, Henderson Executive, RNAV (GPS)-B, Orig

Albion, NY, Pine Hill, RNAV (GPS)-B, Orig

Albion, NY, Pine Hill, VOR/DME OR GPS-A, Amdt 3, CANCELLED

Millbrook, NY, Sky Acres, VOR-A, Amdt 8

Millbrook, NY, Sky Acres, RNAV (GPS) RWY 17, Orig

Millbrook, NY, Sky Acres, GPS RWY 17, Orig, CANCELLED

Millbrook, NY, Sky Acres, RNAV (GPS) RWY 35, Orig

Millbrook, NY, Sky Acres, GPS RWY 35, Orig, CANCELLED

Pittsburgh, PA, Pittsburgh International, ILS RWY 10R, Amdt 10B

Pittsburgh, PA, Pittsburgh International, ILS RWY 28L, Amdt 8B

Pittsburgh, PA, Pittsburgh International, RNAV (GPS) Y RWY 28C, Amdt 1A

Pittsburgh, PA, Pittsburgh International, RNAV (GPS) Y RWY 28L, Amdt 1B

Pittsburgh, PA, Pittsburgh International, RNAV (GPS) Z RWY 28C, Amdt 2A

Pittsburgh, PA, Pittsburgh International, RNAV (GPS) Z RWY 28L, Amdt 2C

Knoxville, TN, McGhee-Tyson, VOR RWY 23L, Amdt 5

Knoxville, TN, McGhee-Tyson, VOR RWY 23R, Amdt 7

Knoxville, TN, McGhee-Tyson, NDB RWY 5R, Amdt 5

Knoxville, TN, McGhee-Tyson, NDB RWY 5L, Amdt 5

Knoxville, TN, McGhee-Tyson, ILS OR LOC RWY 23R, Amdt 11, ILS RWY 23R (CAT II), Amdt 11

Knoxville, TN, McGhee-Tyson, ILS OR LOC RWY 5L, Amdt 8

Knoxville, TN, McGhee-Tyson, RADAR-1, Amdt 22

Madisonville, TN, Monroe County, NDB RWY 5, Amdt 5

Madisonville, TN, Monroe County, RNAV (GPS) RWY 23, Orig

Madisonville, TN, Monroe County, RNAV (GPS) RWY 5, Orig

Caddo Mills, TX, Caddo Mills Muni, RNAV (GPS) RWY 35L, Orig

Caddo Mills, TX, Caddo Mills Muni, NDB RWY 35L, Amdt 2B

Caddo Mills, TX, Caddo Mills Muni, GPS RWY 35L, Orig, CANCELLED

Lufkin, TX, Angelina County, RNAV (GPS) RWY 15, Orig

Lufkin, TX, Angelina County, RNAV (GPS) RWY 25, Amdt 1

Lufkin, TX, Angelina County, RNAV (GPS) RWY 33, Amdt 1

Lufkin, TX, Angelina County, ILS OR LOC RWY 7, Amdt 2

Lufkin, TX, Angelina County, GPS RWY 7, Orig-A, CANCELLED

Lufkin, TX, Angelina County, GPS RWY 15, Orig-A, CANCELLED

Lufkin, TX, Angelina County, VOR/DME RNAV RWY 7, Amdt 3A, CANCELLED

Lufkin, TX, Angelina County, VOR/DME RNAV RWY 15, Amdt 4A, CANCELLED

Rice Lake, WI, Rice Lake Regional-Carl's Field, ILS OR LOC RWY 1, Orig

Rice Lake, WI, Rice Lake Regional-Carl's Field, NDB RWY 1, Orig

* * * Effective June 9, 2005

Louisburg, NC, Franklin County, RNAV (GPS) RWY 4, Orig-A

* * * Effective July 7, 2005

Sparta, IL, Sparta Community-Hunter Field, NDB RWY 18, Amdt 1, CANCELLED

[FR Doc. 05-5343 Filed 3-17-05; 8:45 am]

BILLING CODE 4910-13-P